DEPARTMENT OF AGRICULTURE

Commodity Credit Corporation

Farm Service Agency

[Docket ID: FSA-2021-0004]

Information Collection Request; Representation for CCC and FSA Loans and Authorization To File a Financing Statement

AGENCY: Commodity Credit Corporation and Farm Service Agency, USDA.

ACTION: Notice and request for comments.

SUMMARY: In accordance with the Paperwork Reduction Act of 1995, the Commodity Credit Corporation (CCC) and the Farm Service Agency (FSA) are requesting comments from all interested individuals and organizations on an extension and revision of a currently approved information collection that supports CCC and FSA loan programs. The information collection is necessary to gather data regarding the applicant which is required on a financing statement, and to obtain the applicant's permission to file a financing statement prior to the execution of a security agreement.

DATES: We will consider comments we receive by June 1, 2021.

ADDRESSES: We invite you to submit comments on this notice. In your comment, include date, volume, and page number of this issue of the Federal Register. You may submit comments by any of the following methods:

• Federal eRulemaking Portal: Go to: www.regulations.gov and search for Docket ID FSA-2021-0004. Follow the online instructions for submitting comments.

• Mail, Hand-Delivery, or Courier: Angela Payton, Agricultural Program Specialist, USDA, FSA, Stop 0512, 1400 Independence Avenue SW, Washington, DC 20250.

You may also send comments to the Desk Officer for Agriculture, Office of Information and Regulatory Affairs, Office of Management and Budget, Washington, DC 20503. Comments will be available for inspection online at http://www.regulations.gov.

Copies of the information collection may be requested by contacting Angela Payton at the phone number below or the above address.

FOR FURTHER INFORMATION CONTACT: For specific questions related to collection activities, contact Angela Payton at (202) 720-0482 (voice); or, by email at: Angela.Payton@usda.gov. Persons with disabilities who require alternative means for communication should contact the USDA Target Center at (202) 720-2600 (voice).

SUPPLEMENTARY INFORMATION: Title: Representations for Commodity Credit Corporation or Farm Service Agency Loans and Authorization to File a Financing Statement and Related Documents.

OMB Control Number: 0560-0215.

Expiration Date of Approval: July 31, 2021.

Type of Request: Extension with a revision.

Abstract: Form CCC-10, “Representations for Commodity Credit Corporation or Farm Service Agency Loans and Authorization to File a Financing Statement and Related Documents” is necessary to:

(a) Gather or verify basic data, provided by a CCC or FSA loan applicant, that is required on a financing statement filed by CCC or FSA to perfect a security interest in collateral used to secure a loan; and

(b) Obtain applicant permission to file a financing statement prior to the execution of a security agreement.

FSA's Farm Loan Programs (FLP) uses the CCC-10 when a nonapplicant third party pledges the full value of chattel security to FSA as adequate security required for an FLP loan.

FSA increased the number of respondents by 1,766 and the burden hours increased by 147. The applicants who are applying for farm loans to pledge security for a loan have increased since the last request. CCC's Marketing Assistance Loan and Farm Storage Facility Loan programs are exempted from Paperwork Reduction Act.

For the following estimated total annual burden on respondents, the formula used to calculate the total burden hours is the estimated average time per response multiplied by the estimated total annual of responses.

Estimated Annual Burden: The public reporting burden for this information collection is estimated to average 5 minutes per response (0.08 of an hours).

Respondents: Individual producers and farming entities.

Estimated Number of Respondents: 3,822.

Estimated Number of Responses per Respondent: 1.

Estimated Total Annual Response: 812.

Estimated Average Time per Response: 0.08 (average 5 minutes).

Estimated Total Annual Burden on Respondents: 385.

We are requesting comments on all aspects of this information collection to help us to:

(1) Evaluate whether the proposed collection of information is necessary for the proper performance of the functions of the agency, including whether the information will have practical utility;

(2) Evaluate the accuracy of the agency's estimate of the burden of the collection of information, including the validity of the methodology and assumptions used;

(3) Evaluate the quality, ability and clarity of the information technology; and

(4) Minimize the burden of the information collection on those who respond through the use of appropriate automated, electronic, mechanical, or other technological collection techniques or other forms of information.

All responses to this notice, including names and addresses when provided, will be summarized and included in the request for OMB approval. All comments will also become a matter of public record.

Steven Peterson,
Acting Administrator, Farm Service Agency.

[FR Doc. 2021-06825 Filed 4-1-21; 8:45 am]

BILLING CODE 3410-05-P